Title 3—

The President

Proclamation 10862 of November 19, 2024

National Child's Day, 2024

By the President of the United States of America

A Proclamation

This generation's young people are some of the most gifted, educated, and talented our Nation has ever known. They are the kite strings that keep our national ambitions aloft. On National Child's Day, we recommit to building a future worthy of their highest aspirations.

So many of our Nation's children begin building their futures at our public schools—that is why I am proud that my Administration secured a historic $130 billion in funding for our Nation's K-12 schools through my American Rescue Plan. That law put more teachers in classrooms and more counselors, social workers, and other support staff in our schools. It also invested in high-quality tutoring and made historic expansions in summer and afterschool programs. My Bipartisan Infrastructure Law is expanding access to high-speed internet so students can access it regardless of their zip code. And my Administration has worked to advance a pathway to provide free, healthy school meals for all children as a part of our national strategy to end hunger and reduce diet-related diseases in America by 2030.

My Administration has also worked hard to give families some well-deserved breathing room so that they can care for their children without worrying about how they are going to pay the bills. My American Rescue Plan expanded the Child Tax Credit, which helped reduce child poverty by nearly half across the Nation. That law also made our Nation's biggest investment in child care ever, helping hundreds of thousands of child care providers keep their doors open and continue providing care. I signed the Inflation Reduction Act, saving millions of families $800 per year on their health insurance premiums. My Administration also raised pay for early childhood educators across the country participating in the Head Start program. And my Administration modernized the Thrifty Food Plan for the first time in nearly five decades so that millions more families receiving Supplemental Nutrition Assistance Program benefits can afford nutritious foods.

Securing the health and safety of children has always been a priority for my Administration. I signed the most significant gun safety law in nearly 30 years, working towards a future where no student or child has to live in fear of gun violence. That law also made the largest investment in youth mental health ever to help schools across the country train and hire new mental health counselors. At the same time, we made it easier for schools to leverage Medicaid to deliver health care. And we are working to support LGBTQI+ children and families by protecting their access to health care and preventing harmful practices, including the use of so-called conversion therapy.

My Administration has also been dedicated to addressing the existential threat of climate change—a critical task to secure our children's futures. My Inflation Reduction Act made the most significant investment in climate ever, which includes funding to get communities cleaner air and drinking water, and protect them from the harmful effects of pollution. My Bipartisan Infrastructure Law is working to replace every lead pipe in America, so that every family can turn on the faucet and drink clean, safe water. And my Administration has conserved more than 45 million acres of our Nation's lands and waters in an effort to ensure they can be enjoyed for generations to come.

On National Child's Day, we recommit to ensuring that every child in America has the opportunity to pursue the limits of their talents and ambitions, and we uplift them as the leaders and doers of the future.

NOW, THEREFORE, I, JOSEPH R. BIDEN JR., President of the United States of America, by virtue of the authority vested in me by the Constitution and the laws of the United States, do hereby proclaim November 20, 2024, as National Child's Day. I call upon all government officials, educators, volunteers, and all the people of the United States of America to observe this day with appropriate programs, ceremonies, and activities.

IN WITNESS WHEREOF, I have hereunto set my hand this nineteenth day of November, in the year of our Lord two thousand twenty-four, and of the Independence of the United States of America the two hundred and forty-ninth.

[FR Doc. 2024-28062

Filed 11-26-24; 8:45 am]

Billing code 3395-F4-P